DEPARTMENT OF COMMERCE

International Trade Administration

[A-570-803]

Heavy Forged Hand Tools, With or Without Handles From the People's Republic of China (Axes and Adzes): Rescission of Antidumping Duty Administrative Review

AGENCY: Import Administration, International Trade Administration, Department of Commerce.

DATES: Effective Date: June 8, 2009.

SUMMARY: The Department of Commerce (“Department”) is rescinding an administrative review of the antidumping duty order on heavy forged hand tools, with or without handles from the People's Republic of China (“PRC”), with respect to axes and adzes, for the period of review (“POR”) February 1, 2008 through January 31, 2009. This rescission is based on the timely withdrawal of request for review by the party that requested the review, Fiskars Brands Inc. (“Fiskars”).

FOR FURTHER INFORMATION CONTACT: Alan Ray, Office 9, AD/CVD Operations, Import Administration, International Trade Administration, U.S. Department of Commerce, 14th Street and Constitution Avenue, NW., Washington, DC 20230; telephone: (202) 482-5403.

Background

On February 4, 2009, the Department published in the Federal Register its notice of opportunity to request an administrative review of the antidumping duty order heavy forged hand tools (“HFHTs”), with or without handles from the PRC with respect to axes and adzes. See Antidumping or Countervailing Duty Order, Finding, or Suspended Investigation: Opportunity To Request Administrative Review, 74 CFR 6013 (February 4, 2009). On February 27, 2009, Fiskars requested an administrative review of the antidumping duty order on HFHTs, with or without handles from the PRC with respect to axes and adzes. On March 24, 2009, the Department initiated an antidumping duty administrative review on HFHTs, with or without handles from the PRC with respect to axes and adzes. See Initiation of Antidumping and Countervailing Duty Administrative Reviews and Requests for Revocation in Part, 74 FR 12310 (March 24, 2009). On May 18, 2009, Fiskars timely withdrew its request for review.

Scope of the Order

The products covered by this order are HFHTs comprising the following classes or kinds of merchandise: (1) Hammers and sledges with heads over 1.5 kg. (3.33 pounds) (“hammers/sledges”); (2) bars over 18 inches in length, track tools and wedges (“bars/wedges”); (3) picks and mattocks (“picks/mattocks”); and (4) axes, adzes and similar hewing tools (“axes/adzes”).

HFHTs include heads for drilling hammers, sledges, axes, mauls, picks and mattocks, which may or may not be painted, which may or may not be finished, or which may or may not be imported with handles; assorted bar products and track tools including wrecking bars, digging bars and tampers; and steel woodsplitting wedges. HFHTs are manufactured through a hot forge operation in which steel is sheared to required length, heated to forging temperature and formed to final shape on forging equipment using dies specific to the desired product shape and size. Depending on the product, finishing operations may include shot blasting, grinding, polishing and painting, and the insertion of handles for handled products. HFHTs are currently provided for under the following Harmonized Tariff System of the United States (“HTSUS”) subheadings: 8205.20.60, 8205.59.30, 8201.30.00, and 8201.40.60. Specifically excluded from these investigations are hammers and sledges with heads 1.5 kg. (3.33 pounds) in weight and under, hoes and rakes, and bars 18 inches in length and under.

Rescission of Review

Section 351.213(d)(1) of the Department's regulations provide that the Department will rescind an administrative review if the party that requested the review withdraws its request for review within 90 days of the date of publication of the notice of initiation of the requested review, or withdraws its request at a later date if the Department determines that it is reasonable to extend the time limit for withdrawing the request. Fiskars properly withdrew its request before the 90-day deadline. Therefore, we are rescinding this review of the antidumping duty order on HFHTs, with or without handles from the PRC covering the period February 1, 2008 through January 31, 2009.

Assessment

The Department intends to issue assessment instructions to the U.S. Customs and Border Protection (“CBP”) 15 days after publication of this rescission notice. The Department will instruct CBP to assess antidumping duties at rates equal to the cash deposit of estimated antidumping duties required at the time of entry, or withdrawal from warehouse, for consumption, in accordance with 19 CFR 351.212(c)(1)(i).

Notification to Parties

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: June 1, 2009.
John M. Andersen,
Acting Deputy Assistant Secretary for Antidumping and Countervailing Duty Operations.

[FR Doc. E9-13341 Filed 6-5-09; 8:45 am]

BILLING CODE 3510-DS-P